LIBRARY OF CONGRESS

Copyright Office

37 CFR Part 201

[Docket No. RM 2010-5]

Gap in Termination Provisions

AGENCY: Copyright Office, Library of Congress.

ACTION: Notice of inquiry: Extension of comment period

SUMMARY: The Copyright Office of the Library of Congress is extending the time in which comments can be filed in response to its Notice of Proposed Rulemaking to amend its regulations governing notices of termination of certain grants of transfers and licenses of copyright under section 203 of the Copyright Act of 1976.

DATES: Comments must be received on or before January 24, 2011.

ADDRESSES: The Copyright Office strongly prefers that comments be submitted electronically. A comment page containing a comment form is posted on the Copyright Office Web site at http://www.copyright.gov/docs/termination. The Web site interface requires submitters to complete a form specifying name and organization, as applicable, and to upload comments as an attachment via a browse button. To meet accessibility standards, all comments must be uploaded in a single file in either the Adobe Portable Document File (PDF) format that contains searchable, accessible text (not an image); Microsoft Word; WordPerfect; Rich Text Format (RTF); or ASCII text file format (not a scanned document). The maximum file size is 6 megabytes (MB). The name of the submitter and organization should appear on both the form and the face of the comments. All comments will be posted publicly on the Copyright Office Web site exactly as they are received, along with names and organizations. If electronic submission of comments is not feasible, please contact the Copyright Office at 202-707-0796 for special instructions.

FOR FURTHER INFORMATION CONTACT: David O. Carson, General Counsel, Copyright GC/I&R, P.O. Box 70400, Washington, DC 20024. Telephone: (202) 707-8380. Telefax: (202) 707-8366.

SUPPLEMENTARY INFORMATION: On November 26, 2010, the Copyright Office published a notice of proposed rulemaking and request for comments relating to recordation of notices of termination of transfers of copyright under Section 203 of the Copyright Act in circumstances where a grant was agreed to prior to January 1, 1978, but the work in question was created on or after January 1, 1978. The notice stated that comments would be due on December 27, 2010.

The Office has been contacted by representatives of interested parties who have stated that in light of the complexity of the issues raised in the notice and in light of the holidays, they request an extension of time to submit comments in order to more thoroughly analyze the issues.

Although the Register of Copyrights had hoped to issue a final rule by the end of this year, the Office wants to ensure that interested parties are given sufficient time to formulate and submit their views. Accordingly, the deadline for submission of comments is being extended to Monday, January 24, 2011.

Dated: December 22, 2010.
David O. Carson,
General Counsel.

[FR Doc. 2010-32864 Filed 12-28-10; 8:45 am]

BILLING CODE 1410-30-P